FEDERAL MINE SAFETY AND HEALTH REVIEW COMMISSION

Sunshine Act Meeting

May 21, 2013.

TIME AND DATE: 10:00 a.m., Wednesday, May 29, 2013 (to commence shortly after completion of meeting on first scheduled case).

PLACE: The Richard V. Backley Hearing Room, Room 511N, 1331 Pennsylvania Avenue NW., Washington, DC 20004 (entry from F Street entrance).

STATUS: Open.

MATTERS TO BE CONSIDERED: The Commission will consider and act upon the following in open session: Secretary of Labor v. Knox Creek Coal Corporation, Docket Nos. VA 2010-81-R, et al. (Issues include whether the Administrative Law Judge erred in concluding that certain violations were not “significant and substantial” because of assumptions that were made concerning abatement.)

Any person attending this meeting who requires special accessibility features and/or auxiliary aids, such as sign language interpreters, must inform the Commission in advance of those needs. Subject to 29 CFR 2706.150(a)(3) and 2706.160(d).

CONTACT PERSON FOR MORE INFO: Jean Ellen (202) 434-9950/(202) 708-9300 for TDD Relay/1-800-877-8339 for toll free.

Emogene Johnson,
Administrative Assistant.

[FR Doc. 2013-12589 Filed 5-22-13; 4:15 pm]

BILLING CODE 6735-01-P